DEPARTMENT OF AGRICULTURE

Forest Service

Timberline Express Chairlift, Mt. Hood National Forest, Clackamas County, OR

AGENCY: Forest Service, USDA.

ACTION: Notice of intent to prepare an environmental impact statement.

SUMMARY: The Forest Service, USDA, will prepare an environmental impact statement (EIS) on a proposal submitted by RLK and Company, concessionaire for the Timberline Lodge and Ski Area, to construct a new chairlift and develop a new ski trail system. The construction of the chairlift and ski trails would affect approximately 55 acres within the Zigzag River and Salmon River watersheds on the Zigzag Ranger District and includes a 25-acre expansion of the special use permit boundary. Implementation of this project is scheduled for fiscal year 2004. The Proposed Action would be in compliance with the 1990 Mt. Hood National Forest Land and Resource Management Plan as amended by the Northwest Forest Plan, which provides the overall guidance for management of this area. The Mt. Hood National Forest invites written comments and suggestions on the scope of the analysis. The agency will give notice of the full environmental analysis and decision-making process so interested and affected people may be able to participate and contribute in the final decision.

DATES: Comments concerning the scope of the analysis should be postmarked by September 1, 2002.

ADDRESSES: Send written comments and suggestions concerning the Proposed Action to Paul Koehler, Project Coordinator, Zigzag Ranger District, 70220 E Hwy 26, Zigzag OR, 97049, (phone: 503-622-3191 x614). Comments may also be sent by e-mail to pdkoehler@fs.fed.us. Include your name and mailing address with your comments so documents pertaining to this project may be mailed to you.

FOR FURTHER INFORMATION CONTACT: Questions about the Proposed Action and EIS should be directed to Paul Koehler (address and phone number listed above), or to Mike Redmond, Environmental Coordinator, 16400 Champion Way, Sandy, Oregon, 97055-7248, (phone: 503-668-1776).

SUPPLEMENTARY INFORMATION: The project area is located at Timberline Ski Area, approximately 2 miles north of Government Camp, in Section 7 and 18, T.3S., R.9E., Willamette Meridian, Clackamas County, Oregon. This analysis will evaluate a range of alternatives for implementation of the project activities including a no-action alternative. The project area does not include any designated wilderness, classified roadless areas, wild and scenic rivers, or late successional reserves.

Some of the preliminary issues that have been identified include: Impacts to riparian areas from lift line and ski trail construction; Impacts to mature forests from ski trail and lift line clearing, and; Impacts to heritage resources from the construction of the lift terminals.

The scoping process will include the following: Identify and clarify issues; identify key issues to be analyzed in depth; explore alternatives based on issues recognized during scoping activities; and identify potential environmental effects of the Proposed Action and alternatives.

The draft EIS is planned to be filed with the Environmental Protection Agency (EPA) and available for public review by January 2003. The EPA will publish a Notice of Availability (NOA) of the draft EIS in the Federal Register. The comment period on the draft EIS will be 45 days from the date the NOA appears in the Federal Register. Copies of the draft EIS will be distributed to interested and affected agencies, organizations, Indian Tribes, and members of the public for their review and comment. It is important that those interested in this proposal on the Mt. Hood National Forest participate at that time.

Comments received in response to this Proposed Action, including names and addresses of those who comment, will be considered part of the public record on this Proposed Action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requestor of the agency's decision regarding the request for confidentiality, and where the request is denied, the agency will return the submission and notify the requestor that the comments may be resubmitted with or without names and addresses within thirty days.

The Forest Service believes, at this early stage, it is important to give reviewers notice of several court rulings related to public participation in the environmental review process. First, reviewers of draft EIS must structure their participation in the environmental review of the proposal so that it is meaningful and alerts an agency to the reviewer's position and contentions. Vermont Yankee Nuclear Power Corp. v. NRDC, 435 U.S. 519, 553 (1978). Also, environmental objections that could be raised at the draft EIS stage but are not raised until after completion of the final EIS may be waived or dismissed by the courts. City of Angoon v. Hodel, 803 f. 2d 1016, 1022 (9th Cir. 1986) and Wisconsin Heritages, Inc. v. Harris, 490 F. Supp. 1334, 1338 (E.D. Wis. 1980). Because of these court rulings, it is very important that those interested in this Proposed Action participate by the close of the 45-day comment period so that substantive comments and objects are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

The final EIS is scheduled to be available by June 2003. In the final EIS, the Forest Service is required to respond to substantive comments received during the comment period for the draft EIS. The responsible official is Gary Larsen, Mt. Hood National Forest Supervisor. The responsible official will decide which, if any, of the alternatives will be implemented. The Timberline Express Chairlift and Ski Trail System Construction decision and rationale will be documented in a Record of Decision, which will be subject to Forest Service Appeal Regulations (36 CFR part 215).

Dated: July 25, 2002.
Kathryn J. Silverman,
Deputy Forest Supervisor, Mt. Hood National Forest.

[FR Doc. 02-18104 Filed 7-17-02; 8:45 am]

BILLING CODE 3410-11-M